DEPARTMENT OF EDUCATION

Extension of the Application Deadline Date; Applications for New Awards; Personnel Development To Improve Services and Results for Children With Disabilities—Leadership Development Programs: Increasing the Capacity of Leaders To Improve Systems Serving Children With Disabilities

AGENCY: Office of Special Education and Rehabilitative Services, Department of Education.

ACTION: Notice.

SUMMARY: On February 13, 2020, we published in the Federal Register a notice inviting applications (NIA) for the fiscal year (FY) 2020 Personnel Development to Improve Services and Results for Children with Disabilities—Leadership Development Programs: Increasing the Capacity of Leaders to Improve Systems Serving Children with Disabilities competition, Catalog of Federal Domestic Assistance (CFDA) number 84.325L. The NIA established a deadline date of April 13, 2020, for the transmittal of applications. This notice extends the deadline date for transmittal of applications until May 13, 2020, and extends the date of intergovernmental review until July 12, 2020.

DATES:

Deadline for Transmittal of Applications: May 13, 2020.

Deadline for Intergovernmental Review: July 12, 2020.

FOR FURTHER INFORMATION CONTACT: Sarah Allen, U.S. Department of Education, 400 Maryland Avenue SW, Room 5160, Potomac Center Plaza, Washington, DC 20202-5076. Telephone: (202) 245-7875. Email: Sarah.Allen@ed.gov.

If you use a telecommunications device for the deaf (TDD) or a text telephone (TTY), call the Federal Relay Service (FRS), toll free, at 1-800-877-8339.

SUPPLEMENTARY INFORMATION: On February 13, 2020, we published the NIA for the FY 2020 Personnel Development to Improve Services and Results for Children with Disabilities—Leadership Development Programs: Increasing the Capacity of Leaders to Improve Systems Serving Children with Disabilities competition in the Federal Register (85 FR 8255). We are extending the deadline date for transmittal of applications in order to allow applicants more time to prepare and submit their applications. Applicants that have already timely submitted applications under the FY 2020 Personnel Development to Improve Services and Results for Children with Disabilities—Leadership Development Programs: Increasing the Capacity of Leaders to Improve Systems Serving Children with Disabilities competition may resubmit applications, but are not required to do so. If a new application is not submitted, the Department will use the application that was submitted by the original deadline. If a new application is submitted, the Department will consider the application that is last submitted and timely received.

Note: All information in the NIA for this competition remains the same, except for the deadline for the transmittal of applications and the deadline for intergovernmental review.

Program Authority: 20 U.S.C. 1462 and 1481.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-07944 Filed 4-13-20; 8:45 am]

BILLING CODE 4000-01-P